SECURITIES AND EXCHANGE COMMISSION

Sunshine Act Meetings

TIME AND DATE: Investor Advisory Committee will hold a meeting 9:30 a.m. on Thursday, October 12, 2017.

PLACE: Multi-Purpose Room LL-006 at the Commission's headquarters, 100 F Street NE., Washington, DC 20549.

STATUS: This meeting will be open to the public. Seating will be on a first-come, first-served basis. Doors will open at 9:00 a.m. Visitors will be subject to security checks. The meeting will be webcast on the Commission's Web site at www.sec.gov.

MATTERS TO BE CONSIDERED: On September 12, 2017, the Commission issued notice of the Committee meeting (Release No. 33-10412), indicating that the meeting is open to the public (except during that portion of the meeting reserved for an administrative work session during lunch), and inviting the public to submit written comments to the Committee. This Sunshine Act notice is being issued because a quorum of the Commission may attend the meeting.

The agenda for the meeting includes: Remarks from Commissioners; a discussion regarding blockchain and other distributed ledger technology and implications for securities markets; an overview of law school clinic advocacy efforts on behalf of retail investors; a discussion regarding electronic delivery of information to retail investors (which may include a recommendation of the Investor as Purchaser Subcommittee); subcommittee reports; and a nonpublic administrative work session during lunch.

CONTACT PERSON FOR MORE INFORMATION: For further information and to ascertain what, if any, matters have been added, deleted or postponed; please contact Brent J. Fields from the Office of the Secretary at (202) 551-5400.

Dated: October 5, 2017.
Brent J. Fields,
Secretary.

[FR Doc. 2017-21988 Filed 10-6-17; 11:15 am]

BILLING CODE 8011-01-P